DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 16, 2015.
Roy E. Wright,
Deputy Associate Administrator for Insurance and Mitigation, Department of Homeland Security, Federal Emergency Management Agency.

State and county | Location and case No. | Chief executive officer of community | Community map repository | Effective date of modification | Community No.
California:
Orange, (FEMA Docket No.: B-1430) | City of Seal Beach (14-09-2974P) | The Honorable Gordon A. Shanks, Mayor, City of Seal Beach, 211 8th Street, Seal Beach, CA 90740. | 211 8th Street, Seal Beach, CA 90740. | November 28, 2014 | 060233
Orange, (FEMA Docket No.: B-1430) | Unincorporated Areas of Orange County (14-09-2974) | Mr. Michael B. Giancola, Executive Officer, Orange County, 333 West Santa Ana Boulevard, Santa Ana, CA 92701. | 300 North Flower St., Santa Ana, CA 92703. | November 28, 2014 | 060212
Connecticut: Litchfield, (FEMA Docket No.: B-1430) | Town of New Milford (14-01-0106P) | The Honorable Patricia A. Murphy, Mayor, Town of New Milford, 10 Main Street, New Milford, CT 06776. | Town Hall, 10 Main Street, New Milford, CT 06776. | November 24, 2014 | 090049
Indiana:
Adams, (FEMA Docket No.: B-1430) | Town of Geneva (13-05-6773P) | The Honorable Richard Clutters, Town Council President, Town of Geneva, 411 East Line Street, Geneva, IN 46740. | 411 East Line Street, Geneva, IN 46740. | November 20, 2014 | 180002
Adams, (FEMA Docket No.: B-1430) | Unincorporated Areas of Adams County (13-05-6773P) | The Honorable Doug Bauman, Commissioner, Adams County, 2510 West State Road 116, Geneva, IN 46740. | 112 South Second Street, Decatur, IN 46733. | November 20, 2014 | 180424
Boone, (FEMA Docket No.: B-1430) | Town of Zionsville (14-05-3105P) | Mr. Jeff Papa, Town Council President, Town of Zionsville, 1100 West Oak Street, Zionsville, IN 46077. | Town Hall, 1100 West Oak Street, Zionsville, IN 46077. | December 4, 2014 | 180016
Minnesota: Polk, (FEMA Docket No.: B-1430) | City of Crookston (13-05-7394P) | The Honorable David W. Genereux, Mayor, City of Crookston, 124 North Broadway, Crookston, MN 56716. | City Hall, 124 North Broadway, Crookston, MN 56716. | November 14, 2014 | 270364
Wisconsin:
Kenosha, (FEMA Docket No.: B-1430) | City of Kenosha (14-05-2047P) | The Honorable Keith G. Bosman, Mayor, City of Kenosha, 625 52nd Street, Room 300, Kenosha, WI 53140. | 625 52nd Street, Room 308, Kenosha, WI 53140. | November 4, 2014 | 550209
Ozaukee, (FEMA Docket No.: B-1430) | City of Mequon (14-05-4216P) | The Honorable Dan Abendroth, Mayor, City of Mequon, 11333 North Cedarburg Road, Mequon, WI 53092. | 11333 North Cedarburg Road, Mequon, WI 53092. | November 28, 2014 | 555564

[FR Doc. 2015-15811 Filed 6-26-15; 8:45 am]

BILLING CODE 9110-12-P